DEPARTMENT OF COMMERCE

International Trade Administration

[A-570-863]

Honey from the People's Republic of China: Extension of Time Limit for Preliminary Results of 2003/2004 New Shipper Review

AGENCY: Import Administration, International Trade Administration, Department of Commerce.

EFFECTIVE DATE: September 20, 2005.

FOR FURTHER INFORMATION CONTACT: Anya Naschak at (202) 482-6375; AD/CVD Operations, Office 9, Import Administration, International Trade Administration, U.S. Department of Commerce, 14th Street and Constitution Avenue, NW, Washington, DC 20230.

SUPPLEMENTARY INFORMATION:

Background

On December 10, 2001, the Department published in the Federal Register an antidumping duty order covering honey from the PRC. See Notice of Amended Final Determination of Sales at Less Than Fair Value and Antidumping Duty Order; Honey from the People's Republic of China, 66 FR 63670 (December 10, 2001). On December 22, 2004, the Department received a timely request from Kunshan Xin'an Trade Co., Ltd. (“Xinan”) in accordance with 19 CFR 351.214 (c), for a new shipper review of the antidumping duty order on honey from the PRC, which has a December annual anniversary month. On January 31, 2005, the Department initiated a review for Xinan. See Honey from the People's Republic of China: Initiation of New Shipper Antidumping Duty Review, 70 FR 6412 (February 7, 2005) (“NSR Xinan Initiation”)

On July 14, 2005, the Department extended the time limit for issuance of the preliminary results of this review by 45 days. See Honey from the People's Republic of China: Extension of Time Limit for Preliminary Results of 2003/2004 New Shipper Review, 70 FR 42033 (July 21, 2005). On August 10, 2005, the Department issued a memorandum that stated the Department's intent to rescind this new shipper review because of the non-bona fide nature of Xinan's sales transaction. See Memorandum From James C. Doyle, Director, Office 9, to Barbara E. Tillman, Acting Deputy Assistant Secretary for Import Administration: Bona Fide Analysis for Kunshan Xin'an Trade Co., Ltd.'s Sale in the New Shipper Review of Honey from the People's Republic of China, dated August 10, 2005. We received comments on our intent to rescind this new shipper review from Xinan on August 25, 2005. We received rebuttal comments from the American Honey Producers and the Sioux Honey Association (collectively, “petitioners”) on August 31, 2005. The deadline for completion of the preliminary results is currently September 13, 2005.

Extension of Time Limits for Preliminary Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated (19 CFR 351.214 (i)(2)).

Pursuant to section 751(a)(2)(B)(iv) of the Act and 19 CFR 351.214 (i)(2), we determine that this review is extraordinarily complicated and that it is not practicable to complete this new shipper review within the current time limit. Specifically, the Department requires additional time to analyze the comments received by parties on the Department's bona fides analysis. Accordingly, the Department is extending the time limit for the completion of the preliminary results by 20 days, to October 3, 2005, in accordance with section 751(a)(2)(B)(iv) of the Act and 19 CFR 351.214(i)(2).

This notice is issued and published in accordance with section 751(a)(3)(A) of the Act.

Dated: September 13, 2005.
Barbara E. Tillman,
Acting Deputy Assistant Secretary for Import Administration.

[FR Doc. 05-18714 Filed 9-19-05; 8:45 am]

BILLING CODE 3510-DS-S